INTERNATIONAL TRADE COMMISSION

[USITC SE-13-024]

Sunshine Act Meeting Notice

AGENCY HOLDING THE MEETING: United States International Trade Commission.

TIME AND DATE: October 29, 2013 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-501 and 731-TA-1126 (Preliminary)(Chlorinated Isocyanurates from China and Japan). The Commission is currently scheduled to complete and file its determinations on or before October 31, 2013; Commissioners' opinions will be issued on November 7, 2013.

5. Outstanding action jackets: None.

In accordance with Commission policy, subject matter listed above, not disposed of at the scheduled meeting, may be carried over to the agenda of the following meeting.

By order of the Commission.
Issued: October 22, 2013.
William R. Bishop,
Supervisory Hearings and Information Officer.

[FR Doc. 2013-25170 Filed 10-22-13; 4:15 pm]

BILLING CODE 7020-02-P